DEPARTMENT OF COMMERCE

National Oceanic and Atmospheric Administration

[I.D. 070202E]

Pacific Fishery Management Council; Public Meeting

AGENCY: National Marine Fisheries Service (NMFS), National Oceanic and Atmospheric Administration (NOAA), Commerce.

ACTION: Notice of public meeting.

SUMMARY: The Pacific Fishery Management Council's (Council) Ad Hoc Marine Reserves Policy Committee will hold a working meeting which is open to the public.

DATES: The meeting will be held on Wednesday, August 14, 2002, from 12 noon to 5 p.m., and on Thursday, August 15, 2002, from 8 a.m. to 12 noon.

ADDRESSES: The meetings will be held at a location to be announced on the Pacific Fishery Management Council's website (www.pcouncil.org) by July 15, 2002.

Council address: Pacific Fishery Management Council, 7700 NE Ambassador Place, Suite 200, Portland, OR 97220-1384.

FOR FURTHER INFORMATION CONTACT: Jennifer Gilden, Associate Staff Officer; telephone: (866) 806-7204.

SUPPLEMENTARY INFORMATION: The primary purpose of the meeting is to consider policy recommendations for marine reserve proposals for the state waters of the Channel Islands National Marine Sanctuary.

Although nonemergency issues not contained in the Ad Hoc Marine Reserves Policy Committee meeting agenda may come before the Ad Hoc Marine Reserves Policy Committee for discussion, those issues may not be the subject of formal Ad Hoc Marine Reserves Policy Committee action during this meeting. Ad Hoc Marine Reserves Policy Committee action will be restricted to those issues specifically listed in this document and any issues arising after publication of this document that require emergency action under section 305(c) of the Magnuson-Stevens Fishery Conservation and Management Act, provided the public has been notified of the Ad Hoc Marine Reserves Policy Committee intent to take final action to address the emergency.

Special Accommodations

The meeting is physically accessible to people with disabilities. Requests for sign language interpretation or other auxiliary aids should be directed to Ms. Carolyn Porter at (503) 820-2280 at least 5 days prior to the meeting date.

Dated: July 18, 2002.
Richard W. Surdi,
Acting Director, Office of Sustainable Fisheries, National Marine Fisheries Service.

[FR Doc. 02-18740 Filed 7-23-02; 8:45 am]

BILLING CODE 3510-22-S